COMMISSION ON CIVIL RIGHTS

Agenda and Notice of Public Meeting of the New Jersey Advisory Committee

Notice is hereby given, pursuant to the provisions of the rules and regulations of the U.S. Commission on Civil Rights and the Federal Advisory Committee Act, that a planning meeting and a briefing meeting of the New Jersey Advisory Committee will convene on Friday, November 20, 2009, at the Legislative Annex of the State House, 125 West State Street, Room 3, Trenton, New Jersey 08625. The purpose of the planning meeting is to discuss and vote on the education report. The purpose of the briefing meeting is to obtain an update on the mortgage crisis in the state. The planning meeting will convene at 10 a.m. and the briefing meeting will convene at 11 a.m.

Members of the public are entitled to submit written comments; the comments must be received in the regional office by Monday, December 21, 2009. The address is Eastern Regional Office, 624 Ninth St., NW., Washington, DC 20425. Persons wishing to e-mail their comments, or who desire additional information should contact Alfreda Greene, Secretary, at 202-376-7533 or by e-mail to ero@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee may go to the Commission's website, http://www.usccr.gov, or contact the Eastern Regional Office at the above e-mail or street address.

The meeting will be conducted pursuant to the rules and regulations of the Commission and Federal Advisory Committee Act.

Dated in Washington, DC, October 22, 2009.
Peter Minarik,
Acting Chief, Regional Programs Coordination Unit.

[FR Doc. E9-25845 Filed 10-26-09; 8:45 am]

BILLING CODE 6335-01-P